DEPARTMENT OF HEALTH AND HUMAN SERVICES

Centers for Disease Control and Prevention

[30DAY-19-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project

X-ray Examination Program—Extension—OMB No. 0920-0020 National Institute for Occupational Safety and Health (NIOSH), Centers for Disease Control and Prevention (CDC). The X-ray Examination Program is a federally mandated program under the Federal Mine Safety and Health Act of 1977, PL-95-164. The Act provides the regulatory guidance for the administration of the National Coal Workers' X-ray Surveillance Program, a surveillance program to protect the health and safety of underground coal miners. This program requires the gathering of information from coal mine operators, participating miners, participating x-ray facilities, and participating physicians. The Appalachian Laboratory for Occupational Safety and Health (ALOSH), National Institute for Occupational Safety and Health (NIOSH) is charged with administration of this program. Total annual burden hours for this collection is 4,791.

Respondents | Number of respondents | Number of responses/ respondent | Avg. burden/ response in hours
Physicians/interpretation | 20,000 | 1 | 3/60
Physician/certification | 350 | 1 | 10/60
Miners | 10,000 | 1 | 20/60
Mine operators | 500 | 1 | 30/60
Facilities | 300 | 1 | 30/60

Dated: March 30, 2001.
Nancy E. Cheal,
Acting Associate Director for Policy, Planning and Evaluation, Centers for Disease Control and Prevention (CDC).

[FR Doc. 01-8387 Filed 4-4-01; 8:45 am]

BILLING CODE 4163-18-P